DEPARTMENT OF ENERGY

Federal Energy Regulatory Commission

[Docket No. RP00-404-005]

Northern Natural Gas Company; Notice of Compliance Filing

May 23, 2002.

Take notice that on May 10, 2002, Northern Natural Gas Company (Northern), tendered for filing as part of its FERC Gas Tariff, Fifth Revised Volume No. 1, the following pro forma tariff sheets:

Pro Forma Fifth Revised Volume No. 1

Tenth Revised Sheet No. 201

Third Revised Sheet No. 304

Second Revised Sheet No. 305

Sheet No. 306

Northern states it is supplementing its Order No. 637 compliance filing proposal by: (1) implementing a virtual segmentation proposal on Northern's system; (2) applying the Commission's CIG discount policy; and (3) setting forth the timing for certain computer modifications as set forth herein.

Any person desiring to protest said filing should file a protest with the Federal Energy Regulatory Commission, 888 First Street, NE., Washington, DC 20426, in accordance with Section 385.211 of the Commission's Rules and Regulations. All such protests must be filed on or before May 30, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13501 Filed 5-29-02; 8:45 am]

BILLING CODE 6717-01-P